DEPARTMENT OF THE INTERIOR

Bureau of Indian Affairs

[2231A2100DD/AAKC001030/A0A501010.999900]

Draft Environmental Impact Statement for the Proposed Yahthumb Solar Project, Clark County, Nevada

AGENCY: Bureau of Indian Affairs, Interior.

ACTION: Notice of availability.

SUMMARY: This notice advises the public that the Bureau of Indian Affairs (BIA), as the lead Federal agency, with the Bureau of Land Management (BLM), Environmental Protection Agency (EPA), U.S. Fish and Wildlife Service (USFWS), Nevada Department of Wildlife (NDOW), Clark County, and the Moapa Band of Paiute Indians (Moapa Band) as cooperating agencies, intends to file a draft environmental impact statement (DEIS) with the EPA for the proposed Yahthumb Solar Project (Project). The DEIS evaluates a photovoltaic (PV) solar energy generation and storage project on the Moapa River Indian Reservation (Reservation) and a generation interconnection (gen-tie) line along with the use of existing access roads located on the Reservation, Reservation lands managed by BLM, BLM lands, and private land. This notice also announces that the DEIS is now available for public review and that public meetings will be held to solicit comments on the DEIS.

DATES: The dates and times of the virtual public meetings will be published in the Las Vegas Review-Journal and Moapa Valley Progress and on the following website 15 days before the public meetings: www.YahthumbSolarProjectEIS.com. In order to be fully considered, written comments on the DEIS must arrive no later than 45 days after EPA publishes its Notice of Availability in the Federal Register.

ADDRESSES: You may mail, email, hand carry or telefax written comments to Mr. Chip Lewis, Regional Environmental Protection Officer, BIA Western Regional Office, Branch of Environmental Quality Services, 2600 North Central Avenue, 4th Floor Mail Room, Phoenix, Arizona 85004-3008. Comment may also be sent via email to: chip.lewis@bia.gov or on the Projects website at www.YahthumbSolarProjectEIS.com. Please see the SUPPLEMENTARY INFORMATION section of this notice for directions on submitting comments. The public meetings can be joined online through the Projects website at www.YahthumbSolarProjectEIS.com.

FOR FURTHER INFORMATION CONTACT: Mr. Chip Lewis, BIA Western Regional Office, Branch of Environmental Quality Services at (602) 379-6750 or Mr. Garry Cantley at (602) 379-6750. Individuals in the United States who are deaf, deafblind, hard of hearing, or have a speech disability may dial 711 (TTY, TDD, or TeleBraille) to access telecommunications relay services.

SUPPLEMENTARY INFORMATION: The proposed Federal action, taken under 25 U.S.C. 415, is the BIA's approval of a solar energy ground lease and associated agreements entered into by the Moapa Band with Yahthumb Solar Project, LLC (Applicant). The agreements provide for construction, operation and maintenance (O&M), and eventual decommissioning of a PV electricity generation and battery storage facilities located entirely on the Reservation and specifically on lands held in trust for the Moapa Band, in Clark County Nevada.

The PV electricity generation and battery storage facilities would be located on up to 1,400 acres within a 1,695-acre lease area on tribal trust land and would have a capacity of up to 138 megawatts (MW). The solar field and associated facilities would be in parts of Sections 29, 30, 31, and 32 in Township 15 South, Range 65 East; Section 1 in Township 16 South, Range 64 East; and Section 6 in Township 16 South, Range 65, East Mount Diablo Base Meridian.

Construction of the Project would take up to 14 months. The electricity generation and storage facilities are expected to be operated for up to 56.5 years under the terms of the lease, with time for construction and decommissioning.

Major onsite facilities include multiple blocks of solar PV panels mounted on fixed tilt or tracking systems, pad mounted inverters and transformers, battery storage, access roads, and O&M facilities. A gen-tie line approximately 8.5 to 10 miles long would interconnect the Project to the regional electrical grid at the existing Reid-Gardner Substation. This line would be built within the designated utility corridor on the Reservation that is managed by BLM, on BLM-managed federal land, and on private land near the existing substation. Water will be needed during construction for dust control and a minimal amount will be needed during operations for administrative and sanitary water use and for panel washing. The water supply required for the Project would be leased from the Moapa Band, drawn from the Band's existing water rights, and delivered to the site via temporary water pipeline or by truck. Access to the Project will be provided via I-15 to the existing Ute Road on the Reservation that would be upgraded as needed. Secondary access would be provided via an existing road within the designated utility corridor that would also be upgraded as needed.

The purposes of the proposed Project are, among other things, to: (1) provide a long-term, diverse, and viable economic revenue base and job opportunities for the Moapa Band; (2) assist Nevada to meet their State renewable energy needs; and (3) allow the Moapa Band, in partnership with the Applicant, to optimize the use of the lease site while maximizing the potential economic benefit to the Band.

The BIA and BLM will use the EIS to make decisions on the land lease and right-of-way applications under their respective jurisdiction; the EPA may use the document to make decisions under its authorities; the Moapa Band may use the DEIS to make decisions under its Environmental Policy Ordinance; and the USFWS may use the DEIS to support its decision under the Endangered Species Act.

Directions for Submitting Comments: Please include your name, return address and the caption: “DEIS Comments, Proposed Yahthumb Solar Project” on the first page of your written comments. You may also submit comments verbally during one of the virtual public meeting presentations or provide written comments to the address listed above in the ADDRESSES section.

To help protect the public and limit the spread of the COVID-19 virus, virtual public meetings will be held, where team members will provide a short presentation and remain available to discuss and answer questions. The PowerPoint presentation will be posted to the project website prior to the virtual meetings. Those who cannot live stream the presentation would be able to access the meeting presentation on the website and could join by telephone. Additionally, the live presentation will be recorded and made accessible for viewing throughout the comment period. The first public meeting will be held in the afternoon and the second public meeting will be held in the evening both by video and telephone conference. The dates, times, and access information for the virtual meetings will be included in notices to be published in the Las Vegas Review-Journal and Moapa Valley Progress and on the project website at www.YahthumbSolarProjectEIS.com 15 days before the meetings.

Locations Where the DEIS is Available for Review: The DEIS will be available for review at: BIA Western Regional Office, 2600 North Central Avenue, 12th Floor, Suite 210, Phoenix, Arizona; BIA Southern Paiute Agency, 180 North 200 East, Suite 111, St. George, Utah; and the BLM Southern Nevada District Office, 4701 North Torrey Pines Drive, Las Vegas, Nevada. The DEIS is also available online at: www.YahthumbSolarProjectEIS.com.

To obtain an electronic copy of the DEIS, please provide your name and address in writing or by voicemail to Mr. Chip Lewis or Mr. Garry Cantley. Their contact information is listed in the FOR FURTHER INFORMATION CONTACT section of this notice. Individual paper copies of the DEIS will be provided only upon request.

Public Comment Availability: Written comments, including names and addresses of respondents, will be available for public review at the BIA Western Regional Office, at the mailing address shown in the ADDRESSES section during regular business hours, 8:00 a.m. to 4:30 p.m., Monday through Friday, except holidays. Before including your address, telephone number, email address, or other personal identifying information in your comment, you should be aware that your entire comment—including your personal identifying information—may be made publicly available at any time. While you can ask us in your comment to withhold your personal identifying information from public review, we cannot guarantee that we will be able to do so.

Authority: This notice is published in accordance with section 1503.1 of the Council on Environmental Quality regulations (40 CFR 1500 et seq.) and the Department of the Interior Regulations (43 CFR part 46) implementing the procedural requirements of the National Environmental Policy Act (42 U.S.C. 4321 et seq.), and in accordance with the exercise of authority delegated to the Assistant Secretary—Indian Affairs by part 209 of the Department Manual.

Bryan Newland,
Assistant Secretary—Indian Affairs.

[FR Doc. 2022-19586 Filed 9-9-22; 8:45 am]

BILLING CODE 4337-15-P